DEPARTMENT OF COMMERCE

International Trade Administration

University of Maryland Baltimore County, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 14-024. Applicant: University of Maryland Baltimore County, Baltimore, MD 21250. Instrument: Electron Microscope. Manufacturer: FEI Company, Czech Republic. Intended Use: See notice at 80 FR 31890, June 4, 2015.

Docket Number: 15-002. Applicant: Rhode Island Hospital (Lifespan Corporation), Providence, RI 02903. Instrument: Laser Scanning Microscope. Manufacturer: FEI Company/TILL Photonics, Germany. Intended Use: See notice at 80 FR 31890, June 4, 2015.

Docket Number: 15-004. Applicant: Drexel University, Philadelphia, PA 19104. Instrument: Electron Microscope. Manufacturer: JEOL Ltd., Japan. Intended Use: See notice at 80 FR 31890, June 4, 2015.

Docket Number: 15-006. Applicant: Colorado School of Mines, Golden, CO 80401. Instrument: Electron Microscope. Manufacturer: FEI Company, Czech Republic. Intended Use: See notice at 80 FR 31890-91, June 4, 2015.

Docket Number: 15-008. Applicant: St. Jude Children's Research Hospital, Memphis, TN 38105. Instrument: Electron Microscope. Manufacturer: FEI Company, Czech Republic. Intended Use: See notice at 80 FR 31890, June 4, 2015.

Docket Number: 15-020. Applicant: The City University of New York, New York, NY 10017. Instrument: Electron Microscope. Manufacturer: FEI Company, Japan. Intended Use: See notice at 80 FR 31890-91, June 4, 2015.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: August 4, 2015.
Supriya Kumar,
Acting Director, Subsidies Enforcement Office, Enforcement and Compliance.

[FR Doc. 2015-19614 Filed 8-7-15; 8:45 am]

BILLING CODE 3510-DS-P